DEPARTMENT OF ENERGY

Energy Employees Occupational Illness Compensation Program Act of 2000; Revision to the List of Covered Facilities

AGENCY: Office of Environment, Health, Safety and Security, U.S. Department of Energy.

ACTION: Notice of revision of listing of covered facilities.

SUMMARY: The U.S. Department of Energy (DOE or Department) has periodically published in the Federal Register a list of facilities covered under the Energy Employees Occupational Illness Compensation Program Act of 2000, as amended (EEOICPA or Act). This Notice is being published to reflect the fact that the Beryllium Mill in Delta, Utah (“Beryllium Mill in Delta”) is a covered beryllium vendor facility under EEOICPA.

DATES: September 14, 2023.

FOR FURTHER INFORMATION CONTACT: Mr. Kevin Dressman, Director, Office of Health and Safety (EHSS-10), 1000 Independence Avenue SW, Washington, DC 20585; (301) 903-2473; or by email at kevin.dressman@hq.doe.gov.

SUPPLEMENTARY INFORMATION: This Notice is being published to reflect the fact that the Beryllium Mill in Delta is a covered beryllium vendor facility under EEOICPA. Previous lists or revisions were published by DOE on August 3, 2022 (87 FR 47399); February 17, 2016 (81 FR 8060); July 16, 2015 (80 FR 42094); February 11, 2013 (78 FR 9678); February 6, 2012 (77 FR 5781); May 26, 2011 (76 FR 30695); August 3, 2010 (75 FR 45608); April 9, 2009 (74 FR 16191); June 28, 2007 (72 FR 35448); November 30, 2005 (70 FR 71815); August 23, 2004 (69 FR 51825); July 21, 2003 (68 FR 43095); December 27, 2002 (67 FR 79068); June 11, 2001 (66 FR 31218); and January 17, 2001 (66 FR 4003).

Purpose

EEOICPA established a program to provide compensation to individuals who developed illnesses because of their employment in nuclear weapons production-related activities of DOE or its predecessor agencies. Covered employees include current or former employees of a “beryllium vendor” as defined by the Act. On December 7, 2000, the President issued Executive Order 13179, “Providing Compensation to America's Nuclear Weapons Workers,” which directed the Secretary of Energy to, among other things, publish in the Federal Register a “list of facilities owned and operated by a beryllium vendor, within the meaning of section 3621(6)” (42 U.S.C. 7384l(6)) of the Act. The Department's initial listing was published on January 17, 2001 (66 FR 4003), and DOE has periodically updated the listing as new information has become available. In addition, DOE maintains a database of covered facilities online at https://ehss.energy.gov/search/facility/index.

Section 3621(6) of the Act (42 U.S.C. 7384l(6)) defines “beryllium vendor” as any of the following: “(A) Atomics International; (B) Brush Wellman, Incorporated, and its predecessor, Brush Beryllium Company; (C) General Atomics; (D) General Electric Company; (E) NGK Metals Corporation and its predecessors, Kawecki-Berylco, Cabot Corporation, BerylCo, and Beryllium Corporation of America; (F) Nuclear Materials and Equipment Corporation; (G) StarMet Corporation and its predecessor, Nuclear Metals, Incorporated; (H) Wyman Gordan, Incorporated; (I) Any other vendor, processor, or producer of beryllium or related products designated as a beryllium vendor for purposes of the compensation program under section 3622 [42 U.S.C. 7384m].” The beryllium vendors listed in Section 3621(6) of the Act (42 U.S.C. 7384l(6)), are sometimes referred to as “statutory beryllium vendors” because they are specifically identified by name in the statute.

In 1969, the Brush Beryllium Company opened the Beryllium Mill in Delta and since then, the facility has processed two types of ore to extract beryllium—locally mined bertrandite ore and beryl ore imported from various suppliers. From the Beryllium Mill in Delta, beryllium products are shipped to another Materion Brush, Inc. beryllium vendor facility in Elmore, Ohio to produce metallic beryllium, beryllium alloys, and beryllia ceramic feedstock. The Beryllium Mill in Delta was operated by Brush Beryllium Company from 1969-1971, Brush Wellman, Inc. from 1971-January 23, 2001, Brush Resources, Inc. from January 23, 2001-March 8, 2011, and Materion Natural Resources, Inc. from March 8, 2011-Present. For purposes of coverage under EEOICPA, all references to “Brush Wellman Incorporated” or “Brush Wellman, Inc.” include its predecessor and successor entities, including the aforementioned entities.

Due to Brush Wellman, Inc.'s status as a statutory beryllium vendor, all employees of Brush Wellman, Inc. in the U.S., regardless of location, are covered for the entire period for which Brush Wellman, Inc., its predecessors, and successor entities have supplied beryllium to DOE or its predecessor agencies. That period is defined as August 13, 1943, and continuing. While DOE is publishing this Notice to update its list of covered facilities to reflect the fact that the Beryllium Mill in Delta is owned by a successor to Brush Wellman, Inc., and therefore, is a covered beryllium vendor facility under EEOICPA, DOE notes that the beryllium facilities operated by Brush Wellman, Inc., its predecessors, and successor entities are covered beryllium facilities under EEOICPA because they are facilities of a statutory beryllium vendor, regardless of whether the facility is listed by DOE in a Federal Register notice. DOE will maintain and continually update its database of covered facilities online at https://ehss.energy.gov/search/facility/index.

Signing Authority

This document of the Department of Energy was signed on September 11, 2023, by Todd N. Lapointe, Director, Office of Environment, Health, Safety and Security, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 11, 2023.
Treena V. Garrett,
Federal Register Liaison Officer, U.S. Department of Energy.

[FR Doc. 2023-19919 Filed 9-13-23; 8:45 am]

BILLING CODE 6450-01-P